NATIONAL FOUNDATION ON THE ARTS AND THE HUMANITIES

National Endowment for the Arts; Submission for OMB Review: Comment Request

The National Endowment for the Arts (NEA) has submitted the following public information collection request (ICR) to the Office of Management and Budget (OMB) for review and approval in accordance with the Paperwork Reduction Act of 1995 [P.L. 104-13, 44 U.S.C. Chapter 35]. Copies of this ICR, with applicable supporting documentation, may be obtained by contacting Sunil Iyengar via telephone at 202-682-5424 (this is not a toll-free number) or e-mail at research@arts.endow.gov. Individuals who use a telecommunications device for the deaf (TTY/TDD) may call 202-682-5496 between 10 a.m. and 4 p.m. Eastern time, Monday through Friday.

Comments should be sent to the Office of Information and Regulatory Affairs, Attn: OMB Desk Officer for the National Endowment for the Arts, Office of Management and Budget, Room 10235, Washington, DC 20503 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submissions of responses.

Agency: National Endowment for the Arts.

Title: Big Read Program Evaluation.

OMB Number: New.

Frequency: One Time.

Affected Public: Individuals.

Estimated Number of Respondents: 14,120.

Estimated Time Per Respondent: 8 minutes.

Total Burden Hours: 1,883.

Total Annualized Capital/Startup Costs: 0.

Total Annual Costs (Operating/Maintaining Systems or Purchasing Services): 0.

Description: The National Endowment for the Arts plans to conduct an evaluation to assess the Big Read program at the national level. The Big Read is an initiative of the National Endowment for the Arts (NEA), in partnership with the Institute of Museum and Library Services (IMLS) and in cooperation with Arts Midwest, designed to revitalize the role of literature in American popular culture by providing citizens with the opportunity to read and discuss a single book of fiction within their communities. The evaluation is aimed at assessing the design of the 2007-08 Big Read program and to assess the program's impact on literary reading habits in participating communities. The activities include collecting uniform data from all sites, coordinating local and national data collection—and still keep data collection burdens to a minimum.

As a national study, the Big Read Evaluation will serve as a sound base from which to make estimates of the impact of the initiatives on partnering organizations, communities, and individuals. The Big Read evaluation data will also provide information on the characteristics of those who participate in the initiative and the degree to which the initiative is reaching previously under-represented groups.

ADDRESSES: Sunil Iyengar, National Endowment for the Arts, 1100 Pennsylvania Avenue, NW., Room 616, Washington, DC 20506-0001, telephone (202) 682-5424 (this is not a toll-free number), fax 202/682-5677.

Murray Welsh,
Director, Administrative Services, National Endowment for the Arts.

[FR Doc. E7-1391 Filed 1-29-07; 8:45 am]

BILLING CODE 7537-01-P